DEPARTMENT OF AGRICULTURE

Forest Service

Wallowa-Whitman National Forest; Oregon; Notice of Intent To Prepare a Supplement to the 2012 Final Environmental Impact Statement for Snow Basin Vegetation Management Project

AGENCY: Forest Service, USDA.

ACTION: Notice of intent to prepare a supplemental environmental impact statement.

SUMMARY: The USDA Forest Service will prepare a Supplement to the Snow Basin Vegetation Management Project Final Environmental Impact Statement (EIS) to address the environmental impact of the project on elk and elk habitat, as directed by the United States Court of Appeals for the Ninth Circuit in League of Wilderness Defenders/Blue Mountains Biodiversity Project v. Connaughton, 752 F.3d 755, 767 (9th Cir. 2014). Specifically, the court held that `plaintiffs are likely to prevail on their claim that a supplemental EIS must be completed to show the environmental impact of the Snow Basin project on elk and their habitat now that the [Travel Management Plan] has been withdrawn.' Id. at 761.

FOR FURTHER INFORMATION CONTACT: Dea Nelson, Environmental Coordinator, Wallowa-Whitman National Forest, PO Box 907, Baker City, OR 97814; or, 541-523-1216; or, dnelson09@fs.fed.us.

Individuals who use telecommunication devices for the deaf (TDD) may call the Federal Information Relay Service (FIRS) at 1-800-877-8339 between 8 a.m. and 8 p.m., Eastern Time, Monday through Friday.

SUPPLEMENTARY INFORMATION: In March 2012, the Final EIS for the Snow Basin Vegetation Management Project was completed. A Record of Decision was signed on March 19, 2012. These documents, which include descriptions of the purpose and need for the project and the proposed action, can be found at http://www.fs.usda.gov/goto/SnowBasin. The supplemental EIS will provide additional information to clarify the impacts on elk of the Snow Basin project without considering the travel management plan decision, which was withdrawn in April 2012. A draft supplemental EIS is estimated to be available in November 2014, and the final in February 2015.

Responsible Official

Wallowa-Whitman Forest Supervisor.

Nature of Decision To Be Made

The Responsible Official will decide whether or not to incorporate the supplemental information into the FEIS. The Responsible Official will also document the decision and reasons for the decision in a new record of decision consistent with the scope of the supplement. This decision will be subject to Forest Service predecisional objection procedures (36 CFR part 218, Subparts A and B).

Scoping Process

Scoping is not required for supplements to environmental impact statements (40 CFR 1502.9(c)(4)). Scoping was conducted for the original EIS. The supplement will be subject to notice and comment. A draft supplemental EIS will be published and made available for review and comment for 45 days, following direction at 36 CFR part 218 § 218.22 and § 218.24.

Dated: July 29, 2014.
John Laurence,
Forest Supervisor.

[FR Doc. 2014-18577 Filed 8-5-14; 8:45 am]

BILLING CODE 3410-11-P